DEPARTMENT OF THE INTERIOR

Bureau of Land Management

[NV-050-5853-EU]

Notice of Reality Action: Modified Competitive Sale of Public Lands in Clark County, Nevada, to the City of Las Vegas, N-74816 and N-74822

AGENCY: Bureau of Land Management, Interior.

ACTION: Modified Competitive Sale.

SUMMARY: The following described lands have been designated for disposal under Pub. L. 105-263, the Southern Nevada Public Land Management Act of 1998 (112 Stat. 2343); they will be sold modified competitively in accordance with section 203 and section 209 of the Federal Land Policy and Management Act of 1976 (90 Stat. 2750, 43 U.S.C. 1713, 1719) at not less than the appraised fair market value (FMV).

Mount Diablo Meridian, Nevada

T. 20S., R. 59E.,

Sec. 12, E½NE¼NE¼NE¼,

T. 19S., R. 60E.,

Sec 21, S½S½SE¼NE¼SE¼,

T. 20S., R. 60E.,

Sec. 7, lots 8 and 9

Consisting of 18.61 acres, more or less.

These parcels of land, situated in the Las Vegas Valley are being offered as a modified competitive sale to the City of Las Vegas.

When the land is sold, conveyance of the locatable mineral interests will occur simultaneously with the sale of the land. The locatable mineral interests being offered have no known mineral value. Acceptance of a sale offer will constitute an application for conveyance of those mineral interests. The applicant will be required to pay a $50.00 non-refundable filing fee for processing of the conveyances of the locatable mineral interests for N-74816 and N-74822.

The terms and conditions applicable to the sale are as follows:

All Parcels are Subject to the Following:

1. All leasable and salable mineral deposits are reserved on land sold; permittees, licensees, and lessees, retain the right to prospect for, mine, and remove the minerals owned by the United States under applicable law and regulations that the Secretary of the Interior may prescribe, including all necessary access and exit rights.

2. A right-of-way is reserved for ditches or canals constructed by the authority of the United States, under the Act of August 30, 1890 (43 U.S.C. 945).

3. All land parcels are subject to all valid existing rights. Parcels may also be subject to applications received prior to publication of this notice if processing the application would have no adverse effect on the FMV. Encumbrances of record are available for review during business hours, 7:30 AM to 4:15 PM, Monday through Friday, at the BLM, Las Vegas Field Office (LVFO), at 4701 N. Torrey Pines, Las Vegas, Nevada.

4. All land parcels are subject to reservations for roads, public utilities and flood control purposes both existing and proposed, in accordance with the local governing entities' Transportation Plans.

5. All purchasers/patentees, by accepting a patent, agree to indemnify, defend, and hold the United Stated harmless from any costs, damages, claims, causes of action, penalties, fines, liabilities, and judgments of any kind or nature arising from the past, present, and future acts or omissions of the patentee or their employees, agents, contractors, or lessees, or any third-party, arising out of, or in connection with, the patentee's use, occupancy, or operations on the patented real property. This indemnification and hold harmless agreement includes, but is not limited to, acts and omissions of the patentee and their employees, agents, contractors, or lessees, or any third party, arising out of or in connection with the use and/or occupancy of the patented real property which has already resulted or does hereafter result in: (1) Violations of federal, state, and local laws and regulations that are now, or may in the future become, applicable to the real property; (2) Judgments, claims or demands of any kind assessed against the United States; (3) Costs, expenses, or damages of any kind incurred by the United States; (4) Other releases or threatened releases of solid or hazardous waste(s) and/or hazardous substances(s), as defined by federal or state environmental laws, off, on, into or under land, property and other interests of the United States; (5) Other activities by which solids or hazardous substances or wastes, as defined by federal and state environmental laws are generated, released, stored, used or otherwise disposed of on the patented real property, and any cleanup response, remedial action, or other actions related in any manner to said solid hazardous substances or wastes; or (6) Natural resource damages as defined by federal state law. This covenant shall be construed as running with the patented real property and may be enforced by the United States in a court of competent jurisdiction.

Each parcel will be offered by sealed bid. All sealed bids must be received at the BLM, LVFO, 4701 N. Torrey Pines Dr., Las Vegas, Nevada, 89130, no later than 4:15 PM, PST, on March 3, 2003. Sealed bid envelopes must be marked on the lower front left corner with the parcel number and sale date. Bids must be for not less than the appraised FMV and a separate bid must be submitted for each parcel.

Each sealed bid shall be accompanied by a certified check, money order, bank draft, or cashiers check made payable to the BLM for not less that 10 percent of the amount bid. Sealed bids will be opened at 10 AM on March 4, 2003, at the BLM, LVFO.

If no sealed bids are received, the parcels will be sold to the City of Las Vegas at the appraised FMV.

The City of Las Vegas shall have the right to meet the highest bid. Refusal or failure to meet the highest bid shall constitute a waiver of the City's preferential consideration. If the City meets the highest bid, it must submit the required bid deposit by 4:15 PM on the day of the sale in the form of cash, personal check, bank draft, cashiers check, money order or any combination thereof, made payable to the BLM, for not less than 20 percent of the amount bid.

The remainder of the full bid price must be made within 180 calendar days of the sale date. Failure to pay the full price within 180 days will disqualify the apparent high bidder and cause the entire bid deposit to be forfeited to the BLM.

Federal law required bidders to be U.S. citizens 18 years of age of older; a corporation subject to the laws of any State of the United States; a State, State instrumentality, or political subdivision authorized to hold property; or an entity including, but not limited to associations or partnerships capable of holding property or interests therein under the law of the State of Nevada. Certification of qualification, including citizenship or corporation or partnership, must accompany the bid deposit.

In order to determine the fair market value of the subject public lands through appraisal, certain assumptions have been made of the attributes and limitations of the lands and potential effects of local regulations and policies on potential future land uses. Through publication of this Notice of Realty Action, the BLM gives notice that these assumptions may not be endorsed or approved by units of local government. Furthermore, no warranty of any kind shall be given or implied by the United States as to the potential uses of the lands offered for sale, and conveyance of the subject lands will not be on a contingency basis. It is the buyers' responsibility to be aware of existing projects and use of nearby properties. When conveyed out of Federal ownership, the lands will be subject to applicable reviews and approvals by the respective unit of local government for proposed future uses, and any such reviews and approvals would be the responsibility of the buyer. Any land lacking access from a public road or highway will be conveyed as such, and future access acquisition will be the responsibility of the buyer.

Upon publication of this Notice and until the completion of the sale, the Bureau of Land Management (BLM) is no longer accepting land use applications affecting any of those parcels being offered at this sale. After publication of this Notice any application filed for rights-of-way, permits, leases, and other uses of the offered parcels will be rejected and retuned to the applicant.

Detailed information concerning the sale, including the reservations, sale procedures and conditions and planning and environmental documents are available for public review at the BLM, LVFO, at 4701 N. Torrey Pines, Las Vegas, Nevada, 89130, or by calling (702) 515-5000. Appraisals for each parcel are also available for public view.

For a period of 45 days from the date of publication of this Notice in the Federal Register, the general public and interested parties may submit comments to the Field Manager, LVFO, 4701 N. Torrey Pines, Las Vegas, Nevada, 89130. Any adverse comments will be reviewed by the State Director, who may sustain, vacate, or modify this realty action. In the absence of any adverse comments, this realty action will become the final determination of the Department of the Interior. The BLM may accept or reject any or all offers, or withdraw any land or interest in the land from sale, if, in the opinion of the authorized officer, consummation of the sale would not be fully consistent with FLPMA and other applicable laws or is determined not in the publics interest. Any comments received during this process, as well as the commentor's name and address, will be available to the public in the administrative record and/or pursuant to a Freedom of Information Act request. You may indicate for the record that you do not wish your name and/or address be made available to the public. Any determination by the BLM to release or withhold the names and/or addresses of those who comment will be made on a case-by-case basis. A commentor's request to have their name and/or address withheld from public release will be honored to the extent permissible by law.

The Land will not be offered for sale until at least 60 days after the date of publication of this Notice in the Federal Register.

Dated: November 18, 2002.
Mark T. Morse,
Field Manager.

[FR Doc. 03-3171 Filed 2-7-03; 8:45 am]

BILLING CODE 4310-HC-P